NUCLEAR REGULATORY COMMISSION

[NRC-2009-0453]

Draft Regulatory Guide, DG-1199, “Alternative Radiological Source Terms for Evaluating Design Basis Accidents at Nuclear Power Reactors:” Issuance, Availability; Extension of Comment Period

AGENCY: Nuclear Regulatory Commission.

ACTION: Extension of comment period.

FOR FURTHER INFORMATION CONTACT: Mark Blumberg, U.S. Nuclear Regulatory Commission, Washington, DC 20555-0001, telephone 301-415-1083, or e-mail Mark.Blumberg@nrc.gov.

DATES: The comment period closes on January 13, 2010.

ADDRESSES: You may submit comments by any one of the following methods. Please include Docket ID NRC-2009-0453 in the subject line of your comments. Comments submitted in writing or in electronic form will be posted on the NRC Web site and on the Federal rulemaking Web site Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2009-0453. Address questions about NRC dockets to Carol Gallagher 301-492-3668; e-mail Carol.Gallagher@nrc.gov.

Mail comments to: Michael T. Lesar, Chief, Rulemaking and Directives Branch (RDB), Division of Administrative Services, Office of Administration, Mail Stop: TWB-05-B01M, U.S. Nuclear Regulatory Commission, Washington, DC 20555-0001, or by fax to RDB at (301) 492-3446.

You can access publicly available documents related to this notice using the following methods:

NRC's Public Document Room (PDR): The public may examine and have copied for a fee publicly available documents at the NRC's PDR, Public File Area O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The Draft Regulatory Guide, DG-1199, “Alternative Radiological Source Terms for Evaluating Design Basis Accidents at Nuclear Power Reactors,” is available electronically under ADAMS Accession Number ML090960464.

SUPPLEMENTARY INFORMATION: On October 14, 2009 (74 FR 52822), the NRC published a notice of issuance and availability of Draft Regulatory Guide DG-1199, “Alternative Radiological Source Terms for Evaluating Design Basis Accidents at Nuclear Power Reactors.” Due to the amount of highly technical material on DG-1199 the public comment period has been extended 30 additional days. The comment submittal deadline is extended from the original December 11, 2009 deadline to January 13, 2010.

Dated at Rockville, Maryland, this 20th day of October 2009.
For the Nuclear Regulatory Commission.
Andrea D. Valentin,
Chief, Regulatory Guide Development Branch, Division of Engineering, Office of Nuclear Regulatory Research.

[FR Doc. E9-25781 Filed 10-26-09; 8:45 am]

BILLING CODE 7590-01-P